DEPARTMENT OF COMMERCE

International Trade Administration

[A-580-887]

Carbon and Alloy Steel Cut-to-Length Plate from the Republic of Korea: Preliminary Results of Antidumping Duty Administrative Review; 2018-2019 and Partial Rescission of Review

AGENCY: Enforcement and Compliance, International Trade Administration, Department of Commerce.

SUMMARY: The Department of Commerce (Commerce) is conducting an administrative review of the antidumping duty order on carbon and alloy steel cut-to-length plate from the Republic of Korea. The period of review (POR) is May 1, 2018, through April 30, 2019. The review covers one producer/exporter of the subject merchandise, POSCO/POSCO International Corporation (successor in interest to POSCO Daewoo Corporation)/POSCO Processing & Service Co., Ltd. and its affiliated companies (collectively, the POSCO single entity). We preliminarily determine that sales of subject merchandise by the POSCO single entity were not made at prices below normal value (NV). Interested parties are invited to comment on these preliminary results.

DATES: Applicable July 27, 2020.

FOR FURTHER INFORMATION CONTACT: Michael Bowen or William Horn, AD/CVD Operations, Office VIII, Enforcement and Compliance, International Trade Administration, U.S. Department of Commerce, 1401 Constitution Avenue NW, Washington, DC 20230; telephone: (202) 482-0768 or (202) 482-4868, respectively.

SUPPLEMENTARY INFORMATION:

Background

On July 15, 2019, based on a timely request for review, in accordance with 19 CFR 351.221(c)(1)(i), we initiated an administrative review of the antidumping duty order on certain carbon and alloy steel cut-to-length plate from the Republic of Korea ¹ for twelve companies.² On September 4, 2019, we selected POSCO/POSCO Daewoo Corporation ³/POSCO Processing & Service Co., Ltd. for individual examination as the sole mandatory respondent in this administrative review.⁴ Additionally, on October 9, 2019 the petitioners withdrew their request for review of all companies except for this entity.⁵

¹ See Certain Carbon and Alloy Steel Cut-to-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096 (May 25, 2017) (Order).

² See Initiation of Antidumping and Countervailing Duty Administration Reviews, 84 FR 33739 (July 15, 2019) (Initiation Notice).

³ Based on the record evidence in this review, we are preliminarily finding POSCO International Corporation to be the successor in interest to POSCO Daewoo Corporation. For a full discussion of the proprietary details of Commerce's analysis regarding the successor-in-interest finding, see Memorandum, “Certain Carbon and Alloy Steel Cut-to-Length Plate from the Republic of Korea: POSCO Affiliation and Collapsing Memorandum,” dated concurrently with this memorandum (Affiliation and Collapsing Memorandum).

⁴ See Memorandum, “2018-2019 Administrative Review of Carbon and Alloy Steel Cut-to-Length Plate from the Republic of Korea: Respondent Selection,” dated September 4, 2019.

⁵ See Petitioners' Letter, “Carbon and Alloy Steel Cut-To-Length Plate from the Republic of Korea—Petitioners' Partial Withdrawal of Administrative Review Request,” dated October 9, 2019.

In December 2019, we extended the deadline for these preliminary results until May 29, 2020.⁶ On April 24, 2020, Commerce tolled all deadlines in administrative reviews by 50 days, thereby extending the deadline for these preliminary results until July 20, 2020.⁷ For a complete description of the events that followed the initiation of this review, see the Preliminary Decision Memorandum.⁸

⁶ See Memorandum, “Carbon and Alloy Steel Cut-To-Length Plate from the Republic of Korea: Extension of the Deadline for Preliminary Results of the Antidumping Duty Administrative Review; 2018-2019,” dated December 31, 2019.

⁷ See Memorandum, “Tolling of Deadlines for Antidumping and Countervailing Duty Administrative Reviews in Response to Operational Adjustments Due to COVID-19,” dated April 24, 2020.

⁸ See Memorandum, “Decision Memorandum for Preliminary Results of Antidumping Duty Administrative Review; 2018-2019: Certain Carbon and Alloy Steel Cut-to-Length Plate from the Republic of Korea,” dated concurrently with and hereby adopted by this notice (Preliminary Decision Memorandum).

Scope of the Order

The merchandise subject to the Order is Carbon and Alloy Steel Cut-to-Length Plate. For a complete description of the subject merchandise, please see the Preliminary Decision Memorandum. The product is currently classified under the Harmonized Tariff Schedule of the United States (HTSUS) subheadings 7208.40.3030, 7208.40.3060, 7208.51.0030, 7208.51.0045, 7208.51.0060, 7208.52.0000, 7211.13.0000, 7211.14.0030, 7211.14.0045, 7225.40.1110, 7225.40.1180, 7225.40.3005, 7225.40.3050, 7226.20.0000, and 7226.91.5000.

The products subject to the Order may also enter under the following HTSUS item numbers: 7208.40.6060, 7208.53.0000, 7208.90.0000, 7210.70.3000, 7210.90.9000, 7211.19.1500, 7211.19.2000, 7211.19.4500, 7211.19.6000, 7211.19.7590, 7211.90.0000, 7212.40.1000, 7212.40.5000, 7212.50.0000, 7214.10.000, 7214.30.0010, 7214.30.0080, 7214.91.0015, 7214.91.0060, 7214.91.0090, 7225.11.0000, 7225.19.0000, 7225.40.5110, 7225.40.5130, 7225.40.5160, 7225.40.7000, 7225.99.0010, 7225.99.0090, 7206.11.1000, 7226.11.9060, 7229.19.1000, 7226.19.9000, 7226.91.0500, 7226.91.1530, 7226.91.1560, 7226.91.2530, 7226.91.2560, 7226.91.7000, 7226.91.8000, and 7226.99.0180. The HTSUS subheadings are provided for convenience and customs purposes only; the written product description of the scope of the Order is dispositive.

Partial Rescission of Review

Pursuant to 19 CFR 351.213(d)(1), Commerce will rescind an administrative review, in whole or in part, if the party that requested a review withdraws its request within 90 days of the date of publication of the notice of initiation. We initiated a review of 12 companies for this segment of the proceeding and published notice of the initiation on July 15, 2019.⁹ All requests for review of the following producers/exporters were timely withdrawn: Buma Ce Co., Ltd., Dong Yang Steel Pipe Co., Ltd., Dongkuk Steel Mill Co., Ltd., Expeditors Korea Ltd., Haem Co., Ltd., Hyundai Glovis Co., Ltd., Hyundai Steel Company, J.I. Sea & Air Express Co., Ltd., Maxpeed Co., Ltd., Ramses Logistics Co., Ltd., and Sumitomo Corp. Korea Ltd.¹⁰ Accordingly, Commerce is rescinding the administrative review with respect to these eleven companies, in accordance with 19 CFR 351.213(d)(1). The review will continue with respect to the POSCO single entity.¹¹

⁹ See Initiation Notice.

¹⁰ See Petitioners' Letter, “Carbon and Alloy Steel Cut-To-Length Plate from the Republic of Korea—Petitioners' Partial Withdrawal of Administrative Review Request,” dated October 9, 2019.

¹¹ Commerce preliminarily determines that POSCO, POSCO International Corporation (successor in interest to POSCO Daewoo Corporation), POSCO Processing & Service Co., Ltd., and certain distributors and service centers (Taechang Steel Co., Ltd., Winsteel Co., Ltd., Moonbae Steel Co., Ltd., Dae Dong Steel Co., Ltd., Shinjin Esco Co., Ltd., Shilla Steel Co., Ltd., and POSCO Plate Fabricating Division) are affiliated pursuant to section 771(33)(E) of the Act, and that these companies should be treated as a single entity (collectively, the POSCO single entity) pursuant to 19 CFR 351.401(f). Our collapsing determination with respect to Moonbae Steel Co., Ltd. and Dae Dong Steel Co., Ltd. relates only to the portion of the POR during which these companies were affiliated with POSCO, i.e., from May 1, 2018 to July 2, 2018, and from May 1, 2018 to June 20, 2018, respectively. See Affiliation and Collapsing Memorandum.

Methodology

Commerce is conducting this review in accordance with section 751(a)(1)(B) and (2) of the Tariff Act of 1930, as amended (the Act). Export price and constructed export price are calculated in accordance with section 772 of the Act. NV is calculated in accordance with section 773 of the Act.

For a full description of the methodology underlying our conclusions, see the Preliminary Decision Memorandum, dated concurrently with these results and hereby adopted by this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed at http://enforcement.trade.gov/frn/index.html. The signed Preliminary Decision Memorandum and the electronic version of the Preliminary Decision Memorandum are identical in content. A list of the topics discussed in the Preliminary Decision Memorandum is attached as an Appendix to this notice.

Preliminary Results of the Review

We preliminarily find that a weighted-average dumping margin of zero percent exists for the POSCO single entity for the period May 1, 2018 through April 30, 2019.¹² Therefore, Commerce preliminarily determines that the POSCO single entity did not make sales of subject merchandise at prices below NV during the POR.

¹² See Preliminary Decision Memorandum

Disclosure and Public Comment

Commerce intends to disclose the calculations performed in connection with these preliminary results to interested parties within five days of the date of publication of this notice in accordance with 19 CFR 351.224(b).

Interested parties may submit case briefs to Commerce no later than 30 days after the date of publication of this notice.¹³ Rebuttal briefs, limited to issues raised in the case briefs, may be filed no later than seven days after the date for filing case briefs.¹⁴ Pursuant to 19 CFR 351.309(c)(2) and (d)(2), parties who submit case briefs or rebuttal briefs in this proceeding are encouraged to submit with each argument: (1) A statement of the issue; (2) a brief summary of the argument; and (3) a table of authorities. Case and rebuttal briefs should be filed using ACCESS.¹⁵

¹³ See 19 CFR 351.309(c)(1)(ii).

¹⁴ See 19 CFR 351.309(d); see also Temporary Rule Modifying AD/CVD Service Requirements Due to COVID-19, 85 FR 17006 (March 26, 2020) (“To provide adequate time for release of case briefs via ACCESS, E&C intends to schedule the due date for all rebuttal briefs to be 7 days after case briefs are filed (while these modifications are in effect).”).

¹⁵ See 19 CFR 351.303.

All submissions to Commerce must be filed electronically using ACCESS and must also be served on interested parties.¹⁶ An electronically filed document must be received successfully in its entirety by Commerce's electronic records system, ACCESS, by 5:00 p.m. Eastern Time on the date that the document is due. Note that Commerce has temporarily modified certain of its requirements for serving documents containing business proprietary information, until further notice.¹⁷

¹⁶ See 19 CFR 351.303(f).

¹⁷ See Temporary Rule Modifying AD/CVD Service Requirements Due to COVID-19; Extension of Effective Period, 85 FR 41363 (July 10, 2020).

Interested parties who wish to request a hearing must submit a written request to the Assistant Secretary for Enforcement and Compliance, U.S. Department of Commerce, using Enforcement and Compliance's ACCESS system within 30 days of publication of this notice. ¹⁸ Requests should contain: (1) The party's name, address, and telephone number; (2) the number of participants; and (3) a list of issues to be discussed. Issues raised in the hearing will be limited to those raised in the respective case and rebuttal briefs. If a request for a hearing is made, Commerce intends to hold the hearing at a time and date to be determined. Parties should confirm the date and time of the hearing two days before the scheduled date.

¹⁸ See 19 CFR 351.310(c).

Unless the deadline is extended pursuant to section 751(a)(2)(B)(iv) of the Act and 19 CFR 351.213(h)(2), Commerce intends to issue the final results of this administrative review, including the results of its analysis of issues raised in any written briefs, not later than 120 days after the date of publication of this notice.¹⁹

¹⁹ See section 751(a)(3)(A) of the Act and 19 CFR 351.213(h).

Assessment Rates

Upon publication of the final results of this administrative review, Commerce shall determine, and U.S. Customs and Border Protection (CBP) shall assess, antidumping duties on all appropriate entries covered by this review.²⁰

²⁰ See 19 CFR 351.212(b)(1).

Commerce will calculate importer-specific antidumping duty assessment rates when a respondent's weighted average dumping margin is not zero or de minimis (i.e., less than 0.5 percent). Pursuant to 19 CFR 351.212(b)(1), where the respondent reported the entered value of its U.S. sales, we will calculate importer-specific ad valorem duty assessment rates based on the ratio of the total amount of dumping calculated for the examined sales to the total entered value of such sales. Where the respondent did not report entered value, we will calculate importer-specific assessment rates on the basis of the ratio of the total amount of dumping calculated for the importer's examined sales and the total quantity of those sales, in accordance with 19 CFR 351.212(b)(1).²¹ We will also calculate (estimated) ad valorem importer-specific assessment rates with which to assess whether the per-unit assessment rate is de minimis . We will instruct CBP to assess antidumping duties on all appropriate entries covered by this review when either the respondent's weighted-average dumping margin is not zero or de minimis or the importer-specific ad valorem assessment rate calculated in the final results of this review is not zero or de minimis. Where either the respondent's ad valorem weighted-average dumping margin is zero or de minimis, or an importer-specific ad valorem assessment rate is zero or de minimis,²² we will instruct CBP to liquidate the appropriate entries without regard to antidumping duties.

²¹ In these preliminary results, Commerce applied the assessment rate calculation method adopted in Antidumping Proceedings: Calculation of the Weighted-Average Dumping Margin and Assessment Rate in Certain Antidumping Proceedings: Final Modification, 77 FR 8101 (February 14, 2012).

²² See 19 CFR 351.106(c)(2).

Commerce's “reseller policy” will apply to entries of subject merchandise during the POR produced by the POSCO single entity for which it did not know that the merchandise it sold to the intermediary (e.g., a reseller, trading company, or exporter) was destined for the United States. In such instances, we will instruct CBP to liquidate unreviewed entries at the all-others rate if there is no rate for the intermediate company(ies) involved in the transaction.²³

²³ For a full discussion of this clarification, see Antidumping and Countervailing Duty Proceedings: Assessment of Antidumping Duties, 68 FR 23954 (May 6, 2003).

We intend to issue instructions to CBP 15 days after the date of publication of the final results of this review.

Cash Deposit Requirements

The following deposit requirements will be effective upon publication of the notice of final results of administrative review for all shipments of the subject merchandise entered, or withdrawn from warehouse, for consumption on or after the publication date, as provided by section 751(a)(2)(C) of the Act: (1) The cash deposit rate for the POSCO single entity will be the rate established in the final results of this review, except if the rate is de minimis within the meaning of 19 CFR 351.106(c)(1) (i.e., less than 0.5 percent), in which case the cash deposit rate will be zero; (2) for merchandise exported by producers or exporters not covered in this review but covered in a prior segment of the proceeding, the cash deposit rate will continue to be the company-specific rate published for the most recently-completed segment; (3) if the exporter is not a firm covered in this review, a prior review, or the original investigation, but the producer is, then the cash deposit rate will be the rate established for the most recently-completed segment for the producer of the merchandise; and (4) the cash deposit rate for all other producers or exporters will continue to be 7.39 percent, the all-others rate established in the less-than-fair-value investigation.²⁴ These cash deposit requirements, when imposed, shall remain in effect until further notice.

²⁴ See Order.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act, and 19 CFR 351.221(b)(4).

Dated: July 20, 2020.
Jeffrey I. Kessler,
Assistant Secretary for Enforcement and Compliance.

Appendix—List of Topics Discussed in the Preliminary Decision Memorandum

I. Summary

II. Background

III. Scope of the Order

IV. Affiliation and Collapsing

V. Discussion of the Methodology

VI. Currency Conversion

VII. Recommendation

[FR Doc. 2020-16200 Filed 7-24-20; 8:45 am]

BILLING CODE 3510-DS-P